DEPARTMENT OF HOMELAND SECURITY

Coast Guard

33 CFR Parts 100, 110, 117, 147 and/or 165

[USCG-2008-0181]

Quarterly Listings; Anchorages, Safety Zones, Security Zones, Special Local Regulations, Regulated Navigation Areas, and Drawbridge Operation Regulations

AGENCY: Coast Guard, DHS.

ACTION: Notice of expired temporary rules issued.

SUMMARY: This document provides required notice of substantive rules issued by Coast Guard field units and temporarily effective between April 2007 and June 2008, that were not published in the Federal Register. This quarterly notice lists temporary special local regulations, temporary drawbridge operation regulations, regulated navigation areas, security zones, and safety zones, all of limited duration and for which timely publication in the Federal Register was not possible.

DATES: This document lists temporary Coast Guard rules that became effective and were terminated between 30 April 2007 and 30 June 2008.

ADDRESSES: Documents indicated in this preamble as being available in the docket are available for viewing in their own dockets online at www.regulations.gov by searching on their docket number. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: For questions on this notice contact Ms. Lesley Mose, Office of Regulations and Administrative Law, telephone (202) 362-3863. For questions on viewing, or on submitting material to the docket, contact Ms. Angie Ames, Program Manager, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, drawbridge operation regulations, security zones, regulated navigation area regulations, or safety zones by local Coast Guard officials' on-scene prior to any enforcement action. However, the Coast Guard, by law, must publish in the Federal Register notice of substantive rules adopted. To meet this obligation without imposing undue expense on the public, the Coast Guard periodically publishes a list of these temporary special local regulations, security zones, safety zones, regulated navigation areas, and drawbridge operation regulations. Permanent rules are not included in this list because they are published in their entirety in the Federal Register. Temporary rules are also published in their entirety if sufficient time is available to do so before they are placed in effect or terminated. The safety zones, special local regulations, security zones, regulated navigation areas, and drawbridge operation regulations listed in this notice have been exempted from review under Executive Order 12866, Regulatory Planning and Review, because of their emergency nature, or limited scope and temporary effectiveness.

The following rules were placed in effect temporarily during the period from 30 April 2007, through 30 June 2008, unless otherwise indicated.

Dated: October 3, 2008.
S. G. Venckus,
Chief, Office of Regulations and Administrative Law.

Docket No. | Location | Type | Effective date
USCG-2007-0083 | James River, VA | Security zones (Part 165) | 11/19/2007
USCG-2007-0086 | Savannah, GA | Security zones (Part 165) | 11/19/2007
USCG-2007-0088 | Savannah, GA | Security zones (Part 165) | 11/21/2007
USCG-2007-0152 | Savannah, GA | Security zones (Part 165) | 12/9/2007
USCG-2007-0162 | Charlotte Amalie, USVI | Safety Zones (Parts 147 and 165) | 12/31/2007
USCG-2007-0172 | Dubuque, IA | Drawbridges (Part 117) | 12/18/2007
USCG-2007-0174 | St. Thomas, USVI | Safety Zones (Parts 147 and 165) | 12/27/2007
USCG-2008-0004 | New London, CT | Safety Zones (Parts 147 and 165) | 1/15/2008
USCG-2008-0016 | Savannah, GA | Security zones (Part 165) | 1/9/2008
USCG-2008-0023 | Boston, MA | Safety Zones (Parts 147 and 165) | 1/25/2008
USCG-2008-0024 | Old Tampa Bay, FL | Safety Zones (Parts 147 and 165) | 1/12/2008
USCG-2008-0033 | Savannah, GA | Security zones (Part 165) | 1/10/2008
USCG-2008-0058 | Fort Lauderdale, FL | Safety Zones (Parts 147 and 165) | 5/3/2008
USCG-2008-0089 | Tampa Bay, FL | Safety Zones (Parts 147 and 165) | 3/9/2008
USCG-2008-0095 | Tampa Bay, FL | Safety Zones (Parts 147 and 165) | 4/7/2008
USCG-2008-0102 | San Francisco, CA | Safety Zones (Parts 147 and 165) | 5/9/2008
USCG-2008-0139 | Portland, OR | Safety Zones (Parts 147 and 165) | 4/2/2008
USCG-2008-0144 | Portland, OR | Safety Zones (Parts 147 and 165) | 5/5/2008
USCG-2008-0159 | Hampton, VA | Safety Zones (Parts 147 and 165) | 6/20/2008
USCG-2008-0162 | San Diego Bay, CA | Safety Zones (Parts 147 and 165) | 5/1/2008
USCG-2008-0194 | San Francisco Bay, CA | Safety Zones (Parts 147 and 165) | 4/16/2008
USCG-2008-0195 | San Francisco Bay, CA | Safety Zones (Parts 147 and 165) | 4/21/2008
USCG-2008-0227 | Washington, DC | Security zones (Part 165) | 3/30/2008
USCG-2008-0232 | Johns Pass, FL | Safety Zones (Parts 147 and 165) | 3/26/2008
USCG-2008-0233 | Charlotte Amalie, USVI | Safety Zones (Parts 147 and 165) | 4/26/2008
USCG-2008-0236 | Johns Pass, FL | Safety Zones (Parts 147 and 165) | 3/31/2008
USCG-2008-0237 | Gulf of Mexico, FL | Safety Zones (Parts 147 and 165) | 5/3/2008
USCG-2008-0247 | Boston, MA | Safety Zones (Parts 147 and 165) | 4/14/2008
USCG-2008-0248 | Miami, FL | Safety Zones (Parts 147 and 165) | 3/31/2008
USCG-2008-0257 | Miami, FL | Safety Zones (Parts 147 and 165) | 4/2/2008
USCG-2008-0259 | Savannah, GA | Safety Zones (Parts 147 and 165) | 4/2/2008
USCG-2008-0260 | San Francisco Bay, CA | Safety Zones (Parts 147 and 165) | 4/8/2008
USCG-2008-0261 | San Francisco, CA | Safety Zones (Parts 147 and 165) | 5/8/2008
USCG-2008-0262 | San Francisco, CA | Security zones (Part 165) | 4/9/2008
USCG-2008-0266 | Jacksonville, NC | Security zones (Part 165) | 4/11/2008
USCG-2008-0273 | Lake Havasu, AZ | Safety Zones (Parts 147 and 165) | 4/26/2008
USCG-2008-0276 | Charlotte Amalie, USVI | Safety Zones (Parts 147 and 165) | 4/20/2008
USCG-2008-0280 | Johns Pass, FL | Safety Zones (Parts 147 and 165) | 4/7/2008
USCG-2008-0281 | Alameda, CA | Safety Zones (Parts 147 and 165) | 4/17/2008
USCG-2008-0285 | Lake Washington, WA | Safety Zones (Parts 147 and 165) | 4/17/2008
USCG-2008-0286 | Seattle, WA | Special Local Regulations (Part 100) | 5/3/2008
USCG-2008-0287 | Portland, OR | Security zones (Part 165) | 4/10/2008
USCG-2008-0289 | Savannah, GA | Security zones (Part 165) | 4/9/2008
USCG-2008-0297 | Savannah, GA | Security zones (Part 165) | 4/9/2008
USCG-2008-0298 | San Diego, CA | Security zones (Part 165) | 5/3/2008
USCG-2008-0300 | Chicago, IL | Safety Zones (Parts 147 and 165) | 4/15/2008
USCG-2008-0303 | Belleair Bridge, FL | Safety Zones (Parts 147 and 165) | 4/21/2008
USCG-2008-0304 | Lake Havasu City, AZ | Safety Zones (Parts 147 and 165) | 4/26/2008
USCG-2008-0309 | New Bern, NC | Safety Zones (Parts 147 and 165) | 5/30/2008
USCG-2008-0317 | Sacramento, CA | Drawbridges (Part 117) | 4/27/2008
USCG-2008-0324 | Stockton, CA | Safety Zones (Parts 147 and 165) | 4/25/2008
USCG-2008-0325 | Miami, FL | Safety Zones (Parts 147 and 165) | 4/20/2008
USCG-2008-0330 | Savannah, GA | Security zones (Part 165) | 4/22/2008
USCG-2008-0336 | Fort Lauderdale, FL | Safety Zones (Parts 147 and 165) | 5/5/2008
USCG-2008-0342 | Portland, OR | Security zones (Part 165) | 4/25/2008
USCG-2008-0346 | Nassau County, NY | Drawbridges (Part 117) | 5/10/2008
USCG-2008-0352 | Savannah, GA | Security zones (Part 165) | 4/25/2008
USCG-2008-0353 | Savannah, GA | Security zones (Part 165) | 4/27/2008
USCG-2008-0357 | Portland, OR | Safety Zones (Parts 147 and 165) | 5/2/2008
USCG-2008-0358 | Baldwinsville, NY | Safety Zones (Parts 147 and 165) | 5/17/2008
USCG-2008-0359 | Duluth, MN | Safety Zones (Parts 147 and 165) | 5/13/2008
USCG-2008-0361 | Savannah, GA | Security zones (Part 165) | 4/29/2008
USCG-2008-0362 | Portland, OR | Security zones (Part 165) | 5/3/2008
USCG-2008-0364 | Ft Myers Beach, FL | Safety Zones (Parts 147 and 165) | 5/14/2008
USCG-2008-0370 | Savannah, GA | Safety Zones (Parts 147 and 165) | 5/5/2008
USCG-2008-0371 | Jones Beach, NY | Safety Zones (Parts 147 and 165) | 5/22/2008
USCG-2008-0376 | Richland, WA | Special Local Regulations (Part 100) | 5/17/2008
USCG-2008-0382 | Savannah, GA | Security zones (Part 165) | 5/5/2008
USCG-2008-0387 | Savannah, GA | Safety Zones (Parts 147 and 165) | 5/5/2008
USCG-2008-0393 | PG County, MD | Security zones (Part 165) | 5/15/2008
USCG-2008-0409 | Boston, MA | Safety Zones (Parts 147 and 165) | 5/19/2008
USCG-2008-0410 | Seattle, WA | Security zones (Part 165) | 5/20/2008
USCG-2008-0415 | New London, CT | Security zones (Part 165) | 5/21/2008
USCG-2008-0417 | Seattle, WA | Security zones (Part 165) | 5/20/2008
USCG-2008-0418 | Seattle, WA | Security zones (Part 165) | 5/20/2008
USCG-2008-0430 | San Francisco, CA | Safety Zones (Parts 147 and 165) | 5/30/2008
USCG-2008-0435 | Portland, OR | Security zones (Part 165) | 5/20/2008
USCG-2008-0468 | Wilmington, NC | Regulated Navigation Areas (Part 165) | 5/27/2008
USCG-2008-0481 | Green Bay, WI | Safety Zones (Parts 147 and 165) | 6/14/2008
USCG-2008-0484 | Portland, OR | Security zones (Part 165) | 6/6/2008
USCG-2008-0488 | Salisbury, MA | Safety Zones (Parts 147 and 165) | 6/28/2008
USCG-2008-0489 | Rochester, NY | Safety Zones (Parts 147 and 165) | 6/21/2008
USCG-2008-0522 | Santa Cruz, CA | Safety Zones (Parts 147 and 165) | 6/14/2008
USCG-2008-0531 | Syracuse, NY | Safety Zones (Parts 147 and 165) | 6/28/2008
USCG-2008-0585 | Bay City, MI | Regulated Navigation Areas (Part 100) | 6/20/2008

[FR Doc. E8-23956 Filed 10-10-08; 8:45 am]

BILLING CODE 4910-15-P